DEPARTMENT OF AGRICULTURE

Animal and Plant Health Inspection Service

[Docket No. APHIS-2012-0085]

Notice of Request for Revision to and Extension of Approval of an Information Collection; APHIS Online Reporting Form

AGENCY: Animal and Plant Health Inspection Service, USDA.

ACTION: Revision to and extension of approval of an information collection; comment request.

SUMMARY: In accordance with the Paperwork Reduction Act of 1995, this notice announces the Animal and Plant Health Inspection Service's intention to request a revision to and extension of approval of an information collection that allows the public to report sightings of plant pests and diseases.

DATES: We will consider all comments that we receive on or before February 11, 2013.

ADDRESSES: You may submit comments by either of the following methods:

• Federal eRulemaking Portal: Go to http://www.regulations.gov/#!documentDetail;D=APHIS-2012-0085-0001.

• Postal Mail/Commercial Delivery: Send your comment to Docket No. APHIS-2012-0085, Regulatory Analysis and Development, PPD, APHIS, Station 3A-03.8, 4700 River Road Unit 118, Riverdale, MD 20737-1238.

Supporting documents and any comments we receive on this docket may be viewed at http://www.regulations.gov/#!docketDetail;D=APHIS-2012-0085 or in our reading room, which is located in room 1141 of the USDA South Building, 14th Street and Independence Avenue SW., Washington, DC. Normal reading room hours are 8 a.m. to 4:30 p.m., Monday through Friday, except holidays. To be sure someone is there to help you, please call (202) 799-7039 before coming.

FOR FURTHER INFORMATION CONTACT: For information on the APHIS Online Reporting Form, contact Ms. Heather Curlett, Outreach and Risk Communications Coordinator, PPQ, APHIS, 4700 River Road Unit 130, Riverdale MD 20737; (301) 851-2294. For copies of more detailed information on the information collection, contact Mrs. Celeste Sickles, APHIS' Information Collection Coordinator, at (301) 851-2908.

SUPPLEMENTARY INFORMATION: Title: APHIS Online Reporting Form.

OMB Number: 0579-0311.

Type of Request: Revision to and extension of approval of an information collection.

Abstract: As authorized by the Plant Protection Act (U.S.C. 7701 et seq.) (PPA), the Animal and Plant Health Inspection Service (APHIS), either independently or in cooperation with States, may carry out operations or measures to detect, eradicate, suppress, control, prevent, or retard the spread of plant pests and diseases that are new to or not widely distributed within the United States. This authority allows APHIS to establish control programs for a number of pests and diseases of concern, including Asian longhorned beetle (ALB), emerald ash borer beetle, and citrus greening, to name a few.

APHIS relies on the public to report sightings of pests of concern or suspicious signs of pest or disease damage they may see in their local area. This reporting is currently done through a simple voluntary online form currently used to obtain reports from the public on sightings or signs of ALB. Reports can come from areas that are under regulatory oversight and those areas where no regulatory oversight currently exists. Surveys performed by members of the general public, nature organizations, school groups, garden clubs, and others help APHIS uncover unknown infestations. In fact, surveys conducted by the public supplement the work done by the Agency's surveyors.

The current online form is used to obtain reports from the public on signs or sightings of ALB. This information collection activity was approved by the Office of Management and Budget (OMB) under control number 0579-0311. However, since the form allows the public to only enter information concerning ALB, APHIS is expanding the form to enable the public to submit reports about a variety of pests and diseases. This information will be used to identify new or expanded outbreaks of pests and diseases of concern. The reports, as they are collected, will be transmitted to the appropriate officials in APHIS' Plant Protection and Quarantine program for follow-up, including onsite inspections by APHIS officials or State department of agriculture plant pest experts. Follow-up questions or details on location will be obtained by contacting the respondent for more information and directions.

We are asking OMB to approve our use of this information collection activity for an additional 3 years.

The purpose of this notice is to solicit comments from the public (as well as affected agencies) concerning our information collection. These comments will help us:

(1) Evaluate whether the collection of information is necessary for the proper performance of the functions of the Agency, including whether the information will have practical utility;

(2) Evaluate the accuracy of our estimate of the burden of the collection of information, including the validity of the methodology and assumptions used;

(3) Enhance the quality, utility, and clarity of the information to be collected; and

(4) Minimize the burden of the information collection on those who are to respond, through use, as appropriate, of automated, electronic, mechanical, and other collection technologies; e.g., permitting electronic submission of responses.

Estimate of burden: The public reporting burden for this collection of information is estimated to average 0.083 hours per response.

Respondents: General public, nature organizations, school groups, and garden clubs.

Estimated annual number of respondents: 5,000.

Estimated annual number of responses per respondent: 1.

Estimated annual number of responses: 5,000.

Estimated total annual burden on respondents: 415 hours. (Due to averaging, the total annual burden hours may not equal the product of the annual number of responses multiplied by the reporting burden per response.)

All responses to this notice will be summarized and included in the request for OMB approval. All comments will also become a matter of public record.

Done in Washington, DC, this 6th day of December 2012.
Kevin Shea,
Acting Administrator, Animal and Plant Health Inspection Service.

[FR Doc. 2012-29886 Filed 12-10-12; 8:45 am]

BILLING CODE 3410-34-P